DEPARTMENT OF TRANSPORTATION

Federal Aviation Administration

[Summary Notice No. PRE-2000-55]

Petitions for Exemption; Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption (14 CFR Part 11), this notice contains a summary of certain petitions seeking relief from specified requirements of the Federal Aviation Regulations (14 CFR Chapter I), dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before November 6, 2000.

ADDRESSES: Send comments on any petition in triplicate to: Docket Management Facility, U.S. Department of Transportation, Docket No. FAA-2000-8016, 400 Seventh Street, SW., Nassif Building, Room Plaza 401, Washington, DC 20590.

The petition, any comments received, and a copy of any final disposition are filed in the assigned regulatory docket and are available for examination in the Rules Plaza 401, Docket Management Facility, U.S. Department of Transportation, 400 Seventh Street, SW., Nassif Building, Washington, DC 20590; telephone 1-800-647-5527.

FOR FURTHER INFORMATION CONTACT: Forest Rawls (202) 267-8033, or Vanessa Wilkins (202) 267-8029 Office of Rulemaking (ARM-1), Federal Aviation Administration, 800 Independence Avenue, SW., Washington, DC 20591.

This notice is published pursuant to § 11.85 and 11.91 of Part 11 of the Federal Aviation Regulations (14 CFR Part 11).

Issued in Washington, DC on October 2, 2000.
Donald P. Byrne,
Assistant Chief Counsel for Regulations.

Petitions For Exemption

docket No.: FAA-20000-8016 (Old Docket Number 30040)

Petitioner: Jerry L. Adams, et al

Section of the FAR Affected: 14 CFR 121.383(c)

Description of Relief Sought: To permit 69 airline pilots seeking exemptions from the age 60 rule, to serve as pilots in air carrier operations after their sixtieth birthdays, subject to appropriate periodic proficiency and fitness requirements, and based on the recommendation of the Age 60 Exemption Panel. (The Age 60 Exemption Panel was formed privately in 1999 to evaluate the medical/neuropsychological status of airline pilots seeking exemptions from the age 60 rule. It was not formed or supervised by the FAA.) This request for exemption was originally denied on July 30, 2000, Docket No. 30040. The petition for exemption is reopened for public comment and reconsideration by the FAA. Personal medical records submitted in support of the petition are not included in the public docket.

[FR Doc. 00-25646 Filed 10-4-00; 8:45 am]

BILLING CODE 4910-13-M